DEPARTMENT OF THE INTERIOR

National Park Service

[NPS-WASO-NAGPRA-NPS0029121; PPWOCRADN0-PCU00RP14.R50000]

Notice of Inventory Completion: Arkansas Archeological Survey, Fayetteville, AR; Correction

AGENCY: National Park Service, Interior.

ACTION: Notice; correction.

SUMMARY: The Arkansas Archeological Survey has corrected an inventory of human remains published in a Notice of Inventory Completion in the Federal Register on December 22, 2014. This notice corrects the minimum number of individuals. Lineal descendants or representatives of any Indian Tribe or Native Hawaiian organization not identified in this notice that wish to request transfer of control of these human remains should submit a written request to the Arkansas Archeological Survey. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Arkansas Archeological Survey at the address in this notice by December 9, 2019.

ADDRESSES: Dr. George Sabo, Arkansas Archeological Survey, 2475 N Hatch Avenue, Fayetteville, AR 72704, telephone (479) 575-3556, email gsabo@uark.edu.

SUPPLEMENTARY INFORMATION: Notice is here given in accordance with the Native American Graves Protection and Repatriation Act (NAGPRA), 25 U.S.C. 3003, of the correction of an inventory of human remains under the control of the Arkansas Archeological Survey, Fayetteville, AR. The human remains were removed from Arkansas County, AR.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (79 FR 76351-76361, December 22, 2014). Private individuals removed the human remains from Arkansas County in the 1930s and 1940s. These collections were acquired by the Joint Educational Consortium of Henderson State University and Ouachita Baptist University in 1977 and were transferred to the Arkansas Archeological Survey in 2017 to undergo the NAGPRA process. Transfer of control of the items in this correction notice has not occurred.

Correction

In the Federal Register (79 FR 76351, December 22, 2014), column 3, paragraph 7, sentence 1 is corrected by substituting the following sentence:

In the 1930s to 1940s and in 1979, human remains representing a minimum of two individuals were recovered from the Menard-Hodges site (3AR4) in Arkansas County, Arkansas.

In the Federal Register (79 FR 76351, December 22, 2014), column 3, paragraph 7, sentence 4 is corrected by substituting the following sentence:

Diagnostic artifacts found at the Menard-Hodges site (3AR4) indicate that these human remains were probably buried during the Menard Complex (late A.D. 1500) or the Protohistoric Period (A.D. 1500-1700)

In the Federal Register (79 FR 76361, December 22, 2014), column 3, paragraph 1, sentence 1 is corrected by substituting the following sentence:

Pursuant to 25 U.S.C. 3001(9), the human remains described in this notice represent the physical remains of 441 individuals of Native American Ancestry.

Additional Requestors and Disposition

Lineal descendants or representatives of any Indian Tribe or Native Hawaiian organization not identified in this notice that wish to request transfer of control of these human remains should submit a written request with information in support of the request to Dr. George Sabo, Arkansas Archeological Survey, 2475 N Hatch Avenue, Fayetteville, AR 72704, telephone (479) 575-3556, email gsabo@uark.edu, by December 9, 2019. After that date, if no additional requestors have come forward, transfer of control of the human remains to The Quapaw Tribe of Indians may proceed.

The Arkansas Archeological Survey is responsible for notifying The Quapaw Tribe of Indians that this notice has been published.

Dated: October 15, 2019.
Melanie O'Brien,
Manager, National NAGPRA Program.

[FR Doc. 2019-24396 Filed 11-7-19; 8:45 am]

BILLING CODE 4312-52-P